DEPARTMENT OF COMMERCE

Census Bureau

2002 Economic Census—Vehicle Inventory and Use Survey (VIUS)

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before October 1, 2001.

ADDRESSES: Direct all written comments to Madeleine Clayton, Departmental Paperwork Clearance Officer, Department of Commerce, Room 6086, 14th and Constitution Avenue, NW, Washington, DC 20230 (or via the Internet at mclayton@doc.gov).

FOR FURTHER INFORMATION CONTACT: Requests for additional information or copies of the information collection instrument(s) should be directed to Kimberly Moore, Census Bureau, Room 2744, Building 3, Washington, DC 20233, (301) 457-2797 (or via the Internet at Kimberly.P.Moore@census.gov).

SUPPLEMENTARY INFORMATION

I. Abstract

The Census Bureau is the preeminent collector and provider of timely, relevant, and quality data about the people and economy of the United States. Economic data are the Census Bureau's primary program commitment during nondecennial census years. The Economic Census, conducted under authority of Title 13 U.S.C., is the primary source of facts about the structure and functioning of the Nation's economy and features unique industry and geographic detail. Economic Census statistics serve as part of the framework for the national accounts and provide essential information for government, business and the general public. The 2002 Economic Census will cover virtually every sector of the U.S. economy.

The 2002 Vehicle Inventory and Use Survey, a component of the Economic Census, will produce basic statistics (number of trucks, annual miles, and average miles per truck) on the physical and operational characteristics of the nation's private and commercial truck population. It also will yield a variety of subject statistics including trucks by major use, fuel type, miles per gallon, and products carried. The Census Bureau will publish truck results at the state and national level.

Primary strategies for reducing burden in the Vehicle Inventory and Use Survey data collection include employing a stratified random sample to use the least number of sampling units required to produce reliable statistics, providing check boxes with ranges in lieu of requiring specific responses, and utilizing a short form for light trucks with homogeneous characteristics.

II. Method of Collection

The Vehicle Inventory and Use Survey will survey a sample of private and commercial trucks registered in the 50 States and the District of Columbia. Government-owned trucks will not be sampled. Trucks will be divided into 5 different groups: “pick-up,” “van,” “single-unit light,” “single-unit heavy,” and “truck tractors.” All trucks will be selected at random with probabilities of selection varying by group and state. For each selected truck, a questionnaire will be mailed to the owner identified in the truck registration record. The owner will be asked to respond only for the truck identified by the registration information imprinted on the questionnaire, regardless of whether or not it is still in their possession.

Mail selection procedures will distinguish the following groups of trucks:

A. Light Trucks

A sample of “pickups” and “vans” (including panel trucks, minivans, and sport utility vehicles) will be selected. We estimate that the census mail canvass for 2002 will include approximately 32,000 light trucks out of an overall estimated universe of over 70 million privately and commercially registered light trucks.

B. Medium and Heavy Trucks

Selection procedures will assign all single-unit trucks (excluding those in the pickup and van strata) with a gross vehicle weight (GVW) of 26,000 pounds or less to the “single-unit light” group, the remaining single unit trucks to the “single-unit heavy” group, and truck tractors to the “truck tractor” group. We estimate that the census mail canvass for 2002 will include approximately 103,500 medium and heavy trucks out of an overall estimated universe of over 6 million privately and commercially registered medium and heavy trucks.

III. Data

OMB Number: Not available.

Form Number:

TC-9501 Light Trucks.

TC-9502 Medium and Heavy Trucks.

Type of Review: Regular review.

Affected Public: Individuals, Farms, Businesses and other for-profit institutions, Non-profit institutions, Small businesses or organizations.

Estimated Number of Respondents:

TC-9501 (Light Trucks): 31,851.

TC-9502 (Medium and Heavy Trucks): 103,503.

Total Number of Respondents: 135,354.

Estimated Time Per Response:.

TC-9501 (Light Trucks): .4 hours.

TC-9502 (Medium and Heavy Trucks): .7 hours.

Estimated Total Annual Burden Hours:

TC-9501 (Light Trucks): 12,740.

TC-9502 (Medium and Heavy Trucks): 72,452.

Total Annual Burden Hours: 85,192.

Estimated Total Annual Cost:

TC-9501 (Light Trucks): $231,868.

TC-9502 (Medium and Heavy Trucks): $1,318,626.

Total Annual Cost: $1,550,494.

Respondent's Obligation. Mandatory.

Legal Authority: Title 13, Section 131 of the United States Code.

IV. Request for Comments

Comments are invited on: (a) Whether the proposed collection of information is necessary or the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 27, 2001.
Madeleine Clayton,
Departmental Paperwork Clearance Officer, Office of the Chief Information Officer.

[FR Doc. 01-19242 Filed 8-1-01; 8:45 am]

BILLING CODE 3510-07-P